DEPARTMENT OF COMMERCE

National Oceanic and Atmospheric Administration

RIN 0648-XB153

New England Fishery Management Council; Public Meeting

AGENCY: National Marine Fisheries Service (NMFS), National Oceanic and Atmospheric Administration (NOAA), Commerce.

ACTION: Notice of a public meeting.

SUMMARY: The New England Fishery Management Council (Council) will hold an evening public hearing on Wednesday, April 25, 2012 to obtain public input on measures proposed for inclusion in Amendment 5 to the Atlantic Herring Fishery Management Plan.

DATES: The hearing will be held on Wednesday, April 25, 2012 at 6 p.m.

ADDRESSES: The hearing will be held at the Hilton Hotel, 20 Coogan Boulevard, Mystic, CT 06355-1900; telephone: (860) 572-0731; fax: (860) 572-0328.

Council address: New England Fishery Management Council, 50 Water Street, Mill 2, Newburyport, MA 01950; telephone: (978) 465-0492.

FOR FURTHER INFORMATION CONTACT: Paul J. Howard, Executive Director, New England Fishery Management Council; telephone: (978) 465-0492.

SUPPLEMENTARY INFORMATION:

Tuesday, April 25, 2012

Following the first day of the April 24-26, 2012 New England Fishery Management Council meeting in Mystic, CT, the Council will host a public hearing, the last in a series of coastwide meetings, to obtain public comments on measures under consideration for inclusion in Amendment 5 to the Atlantic Herring Fishery Management Plan. Management measures could include adjustments to the fishery management program, reporting requirements and measures to address trip notification, carrier vessels and transfers of herring at-sea. A catch monitoring program also is being considered as well as measures to address river herring bycatch and criteria for midwater trawl vessel access to the year-round groundfish closed areas.

Although other non-emergency issues not contained in this agenda may come before this Council for discussion, those issues may not be the subjects of formal action during this meeting. Council action will be restricted to those issues specifically listed in this notice and any issues arising after publication of this notice that require emergency action under section 305(c) of the Magnuson-Stevens Act, provided that the public has been notified of the Council's intent to take final action to address the emergency.

Special Accommodations

This meeting is physically accessible to people with disabilities. Requests for sign language interpretation or other auxiliary aids should be directed to Paul J. Howard (see ADDRESSES) at least 5 days prior to the meeting date.

Dated: April 6, 2012.
William D. Chappell,
Acting Director, Office of Sustainable Fisheries, National Marine Fisheries Service.

[FR Doc. 2012-8774 Filed 4-10-12; 8:45 am]

BILLING CODE 3510-22-P